DEPARTMENT OF HOMELAND SECURITY

Federal Emergency Management Agency

[Docket ID FEMA-2011-0039; OMB No. 1660-0124]

Agency Information Collection Activities: Submission for OMB Review; Comment Request, FEMA Preparedness Grants: Emergency Operations Center (EOC) Grant Program

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before May 10, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: FEMA Preparedness Grants: Emergency Operations Center (EOC) Grant Program.

Type of information collection: Revision of a currently approved information collection.

OMB Number: 1660-0124.

Form Titles and Numbers: FEMA Form 089-0-0-3, EOC Grant Program Investment Justification; FEMA Form 089-0-0-18, EOC Prioritization of Investment Justifications Template; FEMA Form 089-0-0-3A, EOC Investment Justification Scoring Worksheet.

Abstract: The Emergency Operations Center (EOC) Grant Program is intended to improve emergency management and preparedness capabilities by supporting flexible, sustainable, secure, and interoperable EOCs with a focus on addressing identified deficiencies and needs. Fully capable emergency operations facilities at the State, Territory, Local and/or Tribal levels are an essential element of a comprehensive national emergency management system and are necessary to ensure continuity of operations and continuity of government in major disasters caused by any hazard.

Affected Public: State, Local or Tribal Government.

Estimated Number of Respondents: 1,456.

Frequency of Response: On occasion.

Estimated Average Hour Burden per Respondent: EOC Grant Program Investment Justification, FEMA Form 089-0-0-3, 8 hours; EOC Prioritization of Investment Justifications Template, FEMA Form 089-0-0-18, 5 hours 30 minutes; EOC Investment Justification Scoring Worksheet, FEMA Form 089-0-0-3A, 30 minutes.

Estimated Total Annual Burden Hours: 6,258 hours.

Estimated Cost: The estimated annual cost to respondents for the hour burden is $195,386.10. There are no annual costs to respondents operations and maintenance costs for technical services. There is no annual start-up or capital costs. The cost to the Federal Government is $380,762.85.

Dated: March 28, 2012.
John G. Jenkins, Jr.,
Acting Director, Records Management Division, Mission Support Bureau, Federal Emergency Management Agency, Department of Homeland Security.

[FR Doc. 2012-8620 Filed 4-9-12; 8:45 am]

BILLING CODE 9111-78-P